DEPARTMENT OF TRANSPORTATION

Federal Aviation Administration

14 CFR Part 71

[Docket No. FAA-2011-1386; Airspace Docket No. 11-ANE-11]

RIN 2120-AA66

Modification, Revocation and Establishment of Air Traffic Service Routes; Windsor Locks Area; CT

AGENCY: Federal Aviation Administration (FAA), DOT.

ACTION: Final rule.

SUMMARY: This action modifies four VOR Federal airways, revokes one VOR Federal airway, and establishes three area navigation (RNAV) routes in the vicinity of Windsor Locks, CT. The FAA is taking this action to adjust the airway route structure due to the planned decommissioning of the Bradley VHF omnirange/tactical air navigation (VORTAC) aid located on Bradley International Airport, Windsor Locks, CT. This action also adjusts the termination point of V-203 due to Canadian airspace reconfiguration.

DATES: Effective date 0901 UTC, May 31, 2012. The Director of the Federal Register approves this incorporation by reference action under 1 CFR part 51, subject to the annual revision of FAA Order 7400.9 and publication of conforming amendments.

FOR FURTHER INFORMATION CONTACT: Paul Gallant, Airspace, Regulations and ATC Procedures Group, Office of Airspace Services, Federal Aviation Administration, 800 Independence Avenue SW., Washington, DC 20591; telephone: (202) 267-8783.

SUPPLEMENTARY INFORMATION:

History

On January 24, 2012, the FAA published in the Federal Register a notice of proposed rulemaking to modify certain VOR Federal airways and establish RNAV routes in the vicinity of Windsor Locks, CT, due to the planned decommissioning of the Bradley VORTAC (77 FR 3415).

Interested parties were invited to participate in this rulemaking effort by submitting written comments on the proposal. One comment was received from the Aircraft Owners and Pilots Association which expressed support for the proposal.

Differences From NPRM

Since publication of the NPRM, Canada put into effect a reconfiguration of airway structure that affects the segment of V-203 that lies within Canadian airspace. Currently, that segment extends between the Massena, NY, 047° radial and the Montreal, Canada, 188° radial, to Montreal. Due to the reconfiguration, V-203 no longer terminates at Montreal. The new termination point is the FRANX fix, which is defined by the intersection of the Massena, NY, 047° and the St Jean, Canada 270° radials. This change lies entirely within Canadian airspace.

A number of points were removed from the descriptions of T-212, T-255 and T-300 because the points are not needed to form the alignment of the routes.

The Rule

This action amends Title 14 Code of Federal Regulation (14 CFR) part 71 by modifying VOR Federal airways V-130, V-203, V-405 and V-419; revoking V-205; and establishes RNAV routes T-212, T-255, and T-300. These changes are required due to the planned decommissioning of the Bradley VORTAC in 2012.

V-130, currently extending from the Albany, NY, VORTAC, through the Bradley VORTAC, to the Martha's Vineyard, MA, VOR/DME, this action is modified by eliminating the segment that extends from the Albany, NY, VORTAC, to the Bradley VORTAC, to the Norwich, CT, VOR/DME. The modified V-130 originates at the Norwich VOR/DME and follows the existing route to the Martha's Vineyard, MA, VOR/DME.

V-203 is extended to encompass a part of V-130 that is being removed as described above. V-203 currently begins at the Albany, NY, VORTAC and ends at the Montreal, Canada, VOR/DME. The extended segment of V-203 runs southeast from the Albany VORTAC to the existing STELA intersection (formed by the intersection of the Albany 134° and the Chester, MA, VOR/DME 266° radials). At that point, flights may link with other VOR Federal airways. In addition, the termination point of V-203 is modified to match the Canadian airway changes (noted above), and now terminates at the FRANX fix, located in Canadian airspace, instead of the Montreal VOR/DME.

V-205 is removed in its entirety because other existing airways are available that provide for navigation to and from Putnam (V-205 currently extends from the COATE intersection 8 NM northwest of the Sparta, NJ, VORTAC to the Putnam, CT, VOR/DME.) In addition, a new RNAV route (T-212) overlies part of the V-205 route and terminates at Putnam.

V-405 is realigned to bypass the Bradley VORTAC and is routed through the Barnes, MA, VORTAC (located approximately 13 NM north of Bradley). The airway then proceeds through the Putnam, CT, VOR/DME to the Providence, RI, VORTAC and resumes the currently published route to Martha's Vineyard, MA.

V-419, currently extending between the Westminster, MD, VORTAC, and the Boston, MA, VOR/DME, now extends between Westminster, MD and the existing BRISS intersection (formed by the intersection of the Carmel, NY, VOR/DME 045° and the Madison, CT, 328° radials). The route segments between the BRISS intersection and Boston are eliminated. Alternative routing to Boston is available using other existing airways and/or via the new RNAV routes.

The FAA is also establishing three new RNAV routes, designated T-212, T-255 and T-300. T-212 extends between the WEARD, NY, fix and the Putnam, CT, VOR/DME. T-212 overlies V-205, which is removed.

T-255 extends between the NELIE, CT, waypoint (WP) and the Martha's Vineyard, MA, VOR/DME. It overlies that portion of V-405 that is being removed as described above.

T-300 extends between the Albany, NY, VORTAC and the Martha's Vineyard, MA, VOR/DME. This route overlies another portion of V-130 that is removed under this action.

VOR Federal airways are published in paragraph 6010, and RNAV routes are published in paragraph 6011, respectively, of FAA Order 7400.9V dated August 9, 2011, and effective September 15, 2011, which is incorporated by reference in 14 CFR 71.1. The VOR Federal airways and RNAV routes listed in this document will be subsequently published in the Order.

The FAA has determined that this regulation only involves an established body of technical regulations for which frequent and routine amendments are necessary to keep them operationally current. Therefore, this regulation: (1) Is not a “significant regulatory action” under Executive Order 12866; (2) is not a “significant rule” under Department of Transportation (DOT) Regulatory Policies and Procedures (44 FR 11034; February 26, 1979); and (3) does not warrant preparation of a regulatory evaluation because the anticipated impact is so minimal. Since this is a routine matter that will only affect air traffic procedures and air navigation, it is certified that this rule, when promulgated, will not have a significant economic impact on a substantial number of small entities under the criteria of the Regulatory Flexibility Act.

The FAA's authority to issue rules regarding aviation safety is found in Title 49 of the United States Code. Subtitle I, Section 106 describes the authority of the FAA Administrator. Subtitle VII, Aviation Programs, describes in more detail the scope of the agency's authority.

This rulemaking is promulgated under the authority described in Subtitle VII, Part A, Subpart I, Section 40103. Under that section, the FAA is charged with prescribing regulations to assign the use of the airspace necessary to ensure the safety of aircraft and the efficient use of airspace. This regulation is within the scope of that authority because it amends the airway structure to ensure the continuity of air navigation capability in the Windsor Locks, CT, area and expands the availability of RNAV routes within the NAS.

Radials listed in this rule are expressed in degrees relative to True North.

Environmental Review

The FAA has determined that this action is categorically excluded from further environmental documentation according to FAA Order 1050.1E, paragraph 311a, 311b, and 311i. The implementation of this action will not result in any extraordinary circumstances in accordance with paragraph 304 of Order 1050.1E.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of FAA Order 7400.9V, Airspace Designations and Reporting Points, dated August 9, 2011 and effective September 15, 2011, is amended as follows:

Paragraph 6010 VOR federal airways.

* * * * *

V-130 [Amended]

From Norwich, CT; INT Norwich 114° and Martha's Vineyard, MA 267° radials; to Martha's Vineyard.

V-203 [Amended]

From INT Chester, MA 266° and Albany, NY 134° radials; Albany; Saranac Lake, NY; Massena, NY; to INT Massena 047° and St. Jean, Canada 270° radials. The airspace within Canada is excluded.

V-205 [Removed]

V-405 [Amended]

From INT Pottstown, PA, 222° and Baltimore, MD, 034° radials; Pottstown; INT Pottstown 050° and Solberg, NJ, 264° radials; Solberg; INT Solberg 044° and Carmel, NY, 243° radials; Carmel; INT Carmel 344° and Pawling, NY, 204° radials; Pawling; Barnes, MA; Putnam, CT; Providence, RI; INT Providence 151° and Martha's Vineyard, MA, 267° radials; to Martha's Vineyard.

V-419 [Amended]

From Westminster, MD to Modena, PA; Solberg, NJ; INT Solberg 044° and Carmel, NY 243° radials; Carmel; to INT Carmel 045°and Madison, CT 328° radials.

* * * * *

Paragraph 6011 United States area navigation routes.

* * * * *

T-212 WEARD, NY to Putnam, CT (PUT) [New]
WEARD, NY | Fix | (lat. 41°45′44″ N., long. 74°31′30″ W.)
WEETS, NY | Fix | (lat. 41°51′27″ N., long. 74°11′52″ W.)
NELIE, CT | INT | (lat. 41°56′28″ N., long. 72°41′19″ W.)
Putnam, CT (PUT) | VOR/DME | (lat. 41°57′20″ N., long. 71°50′39″ W.)
T-255 NELIE, CT to Martha's Vineyard, MA (MVY) [New]
NELIE, CT | INT | (lat. 41°56′28″ N., long. 72°41′19″ W.)
Providence, RI (PVD) | VORTAC | (lat. 41°43′28″ N., long. 71°25′47″ W.)
FALMA, RI | Fix | (lat. 41°22′22″ N., long. 71°10′16″ W.)
Martha's Vineyard, MA (MVY) | VOR/DME | (lat. 41°23′46″ N., long. 70°36′46″ W.)
T-300 Albany, NY (ALB) to Martha's Vineyard, MA (MVY) [New]
Albany, NY (ALB) | VORTAC | (lat. 42°44′50″ N., long. 73°48′11″ W.)
NELIE, CT | INT | (lat. 41°56′28″ N., long. 72°41′19″ W.)
Norwich, CT (ORW) | VOR/DME | (lat. 41°33′23″ N., long. 72°59′58″ W.)
MINNK, RI | Fix | (lat. 41°21′41″ N., long. 71°25′27″ W.)
FALMA, RI | Fix | (lat. 41°22′22″ N., long. 71°10′16″ W.)
Martha's Vineyard, MA (MVY) | VOR/DME | (lat. 41°23′46″ N., long. 70°36′46″ W.)

Issued in Washington, DC, on March 28, 2012.
Gary A. Norek,
Manager, Airspace Regulations and ATC Procedures Group.

[FR Doc. 2012-8183 Filed 4-4-12; 8:45 am]

BILLING CODE 4910-13-P